DEPARTMENT OF HEALTH AND HUMAN SERVICES

Health Care Financing Administration

[HCFA-1030-N]

Medicare Program; Medicare+Choice Deeming Authority

AGENCY: Health Care Financing Administration (HCFA), HHS.

ACTION: Notice.

SUMMARY: This notice announces that 30 days after the publication of the Medicare+Choice (M+C) final rule, we will begin to accept applications from private accrediting organizations who seek M+C deeming authority.

EFFECTIVE DATE: This notice is effective on July 31, 2000.

FOR FURTHER INFORMATION CONTACT: Patricia Kurtz, (410) 786-4670.

SUPPLEMENTARY INFORMATION:

Background

Section 4001 of the Balanced Budget Act of 1997 (BBA) (Pub. L. 105-33), enacted on August 5, 1987, added section 1852(e)(4) to the Social Security Act (the Act), which gives us the authority to determine that a Medicare+Choice Organization (M+CO) is “deemed” to be in compliance with certain Medicare requirements if the M+CO has been accredited (and is periodically reaccredited) by an accrediting organization that we have determined applies and enforces requirements at least as stringent as those the M+CO would be deemed to meet. Section 518 of the Balance Budget Refinement Act of 1999 (BBRA) (Pub. L. 106-113), enacted on November 29, 1999, amended section 1852(e)(4) of the Act to expand the scope of deeming from two to six areas. Accrediting organizations may seek authority for any of the categories. The BBRA specified that we cannot require an accrediting entity to be able to certify plans for all the deeming categories. It also required us to determine, within 210 days from the day the application is determined to be complete, the eligibilty of the accrediting organizations to be granted deeming authority. Conditions and procedures for granting deeming authority to accrediting organizations are outlined in § 422.157 and § 422.158 of title 42 of the Code of Federal Regulations.

Applications

This notice announces that 30 days after the publication of the M+C final rule, we will begin to accept applications from national private accrediting organizations who seek M+C deeming authority. To receive an application packet, please contact Patricia Kurtz at (410) 786-4670 or via e-mail at pkurtz@hcfa.gov or mail your inquires to: Patricia Kurtz, Health Care Financing Administration, Health Plan Administration Group, Room C4-24-04, 7500 Security Blvd., Baltimore, MD. 21244.

Authority: Section 1852(e)(4) of the Social Security Act (42 U.S.C. 1395w-22(e)(4)) (Catalog of Federal Domestic Assistance Program No. 93.773 Medicare—Hospital Insurance Program; and No. 93.774, Medicare—Supplementary Medical Insurance Program)

Dated: June 19, 2000.
Nancy-Ann Min DeParle,
Administrator, Health Care Financing Administration.

[FR Doc. 00-16058 Filed 6-28-00; 8:45 am]

BILLING CODE 4120-01-P